DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2010 Census Integrated Communication Program (ICP) Evaluation.

Form Number(s): Various.

OMB Control Number: None.

Type of Request: New collection.

Burden Hours: 7.100.

Number of Respondents: 11,200.

Average Hours per Response: 38 minutes.

Needs and Uses: Census 2000 was the first decennial census to use a paid advertising campaign. The campaign featured use of print and broadcast media, as well as outdoor advertising, to emphasize the importance of responding to the census. Five advertising agencies were used—one to create the core message, and the others to tailor it to specific audiences. The Census Bureau also established partnerships with many diverse groups at all levels of government, both to publicize the census and to encourage participation. Numerous promotions and special events were held across the country. The available evidence suggests that the Census 2000 Partnership and Marketing Program along with other efforts aimed at improving census participation, succeeded in reversing a long-term decline in mail response rates (especially in traditionally hard-to-enumerate groups), and may also have improved cooperation with Census Bureau enumerators, helping to shorten and reduce the costs of Nonresponse Followup (NRFU) efforts.

The 2010 Census Integrated Communications Campaign (ICC) is intended to build on the success of the Census 2000 Partnership and Marketing Program. For 2010, the Census Bureau will use an approach that integrates a mix of mass media advertising, targeted media outreach to specific populations, national and local partnerships, grassroots marketing, school-based programs, and special events. By integrating these elements with each other and with the Census Bureau's 2010 operations, the campaign's goal is to more effectively help ensure that everyone, especially the hard to enumerate, is reached.

The Census Bureau will use an independent evaluation of the 2010 Census ICC to determine if the campaign is achieving its goals. The purpose of the evaluation is to assess the impact of the entire campaign for paid media/advertising, partnerships, Census in Schools program, and other campaign activities. The evaluation will allow stakeholders to determine if the significant investment in the 2010 Census ICC was justified by such outcomes as reduced NRFU burden, reduced differential undercount, and increased cooperation with enumerators. The 2010 Census Integrated Communications Program (ICP) Evaluation is designed as a multi-method approach that will increase the depth and breadth of the evidence available for the assessment and will support valid, robust, and actionable conclusions about the impact of the 2010 Census ICC. The Census Bureau has contracted with the National Opinion Research Center (NORC) at the University of Chicago to design, conduct, and analyze the 2010 Census ICP Evaluation.

Complimentary to the NORC evaluation is the Paid Advertising Heavy-Up Experiment (PAHUE). For this experiment, pairs of DMA's will be matched on indicators such as hard to count scores, mail return rates in Census 2000, race/ethnic populations, poverty rates, urban/rural composition, linguistic isolation population, and number of households. Once the DMAs are identified, one-half of each pair will be randomly assigned to receive a 50 percent “heavy-up” of paid advertising.

The 2010 Census ICC contract is a major public expenditure and has great potential to affect the quality and overall cost of the 2010 Census. For these reasons, a rigorous and independent evaluation of the 2010 Census ICC is essential for assessing the success of the 2010 Census and planning for the 2020 Census.

The 2010 Census ICP Evaluation must answer the critically important questions the Census Bureau has posed about effective communications for Census success, and must do this in a statistically rigorous manner, defensible to all stakeholders and concerned parties—in the Census Bureau; in the U.S. Congress, whose membership, policies, and plans depend on the outcome of the decennial census; in other levels and entities of government; the Census Advisory Committees; and in the research community. Specifically, the evaluation must determine whether the 2010 Census ICC achieved its three primary goals: (1) Increasing the mail response rate; (2) improving the overall accuracy of the 2010 Census by reducing differential undercounting of population by race/ethnicity; and (3) improving cooperation with Census enumerators—all by directly and indirectly influencing public awareness, attitudes, intentions, and ultimate behaviors.

Affected Public: Individuals or households.

Frequency: One time.

Respondent's Obligation: Voluntary.

Legal Authority: Title 13 U.S.C. Sections 141 and 193.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: May 27, 2009.
Glenna Mickelson,
Management Analyst, Office of the Chief Information Officer.

[FR Doc. E9-12624 Filed 5-29-09; 8:45 am]

BILLING CODE 3510-07-P